DEPARTMENT OF TRANSPORTATION

Federal Aviation Administration

14 CFR Part 39

[Docket No. FAA-2007-0083; Directorate Identifier 2006-NM-266-AD]

RIN 2120-AA64

Airworthiness Directives; Empresa Brasileira de Aeronautica S.A. (EMBRAER) Model EMB-135BJ, -135ER, -135KE, -135KL, -135LR, -145, -145ER, -145MR, -145LR, -145XR, -145MP, and -145EP Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

It has been found the occurrence of engine anti-ice system valve failure, where the valve spring seat has broken and obstructed the anti-ice system venturi tube. * * *

Therefore, should the aircraft encounter icing conditions, ice may accrete in the engine inlet lip and be ingested through the air inlet, resulting in possible engine damage and flame-out.

The proposed AD would require actions that are intended to address the unsafe condition described in the MCAI.

DATES: We must receive comments on this proposed AD by November 26, 2007.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2007-0083; Directorate Identifier 2006-NM-266-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2006-09-03R1, effective January 4, 2007 (referred to after this as “the MCAI”), to correct an unsafe condition for the specified products. The MCAI states:

It has been found the occurrence of engine anti-ice system valve failure, where the valve spring seat has broken and obstructed the anti-ice system venturi tube. Aircraft dispatch with that failure may be allowed by the operator Minimum Equipment List (MEL), since the engine anti-ice system valve be locked in the OPEN position. However, there is no readily available means to make sure the anti-ice system tubing is free of debris, allowing unrestricted hot airflow to the piccolo tube on the engine inlet lip. Therefore, should the aircraft encounter icing conditions, ice may accrete in the engine inlet lip and be ingested through the air inlet, resulting in possible engine damage and flame-out.

The MCAI requires inspection of the engine anti-icing system valves and tubes to detect damage and, if necessary, replacement of the anti-icing system valves. You may obtain further information by examining the MCAI in the AD docket.

Relevant Service Information

EMBRAER has issued the following service bulletins:

• 145-30-0044, Revision 03, dated December 12, 2006.

• 145-30-0049, Revision 01, dated October 19, 2006.

• 145LEG-30-0016, Revision 01, dated February 5, 2007.

• 145LEG-30-0018, Revision 02, dated December 12, 2006.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 697 products of U.S. registry. We also estimate that it would take about 2 work-hours per product to comply with the requirements of this proposed AD. The average labor rate is $80 per work-hour. Based on these figures, we estimate the cost of the proposed AD on U.S. operators to be $111,520, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EMPRESA BRASILEIRA DE AERONAUTICA S.A. (EMBRAER): Docket No. FAA-2007-0083; Directorate Identifier 2006-NM-266-AD.

Comments Due Date

(a) We must receive comments by November 26, 2007.

Affected ADs

(b) None.

Applicability

(c) This AD applies to Empresa Brasileira de Aeronautica S.A. (EMBRAER) Model EMB-135BJ, -135ER, -135KE, -135KL, -135LR, -145, -145ER, -145MR, -145LR, -145XR, -145MP, and -145EP airplanes, certificated in any category, except aircraft having serial numbers 14500921, 14500928, 14500932, 14500949, 14500958, 14500971, 14500973 and up, which will have in-factory modification incorporated.

Subject

(d) Air Transport Association of America Code 30: Ice and Rain Protection.

Reason

(e) The mandatory continuing airworthiness information (MCAI) states:

It has been found the occurrence of engine anti-ice system valve failure, where the valve spring seat has broken and obstructed the anti-ice system venturi tube. Aircraft dispatch with that failure may be allowed by the operator Minimum Equipment List (MEL), since the engine anti-ice system valve be locked in the OPEN position. However, there is no readily available means to make sure the anti-ice system tubing is free of debris, allowing unrestricted hot airflow to the piccolo tube on the engine inlet lip. Therefore, should the aircraft encounter icing conditions, ice may accrete in the engine inlet lip and be ingested through the air inlet, resulting in possible engine damage and flame-out.

The MCAI requires inspection of the engine anti-icing system valves and tubes to detect damage and, if necessary, replacement of the anti-icing system valves.

Actions and Compliance

(f) Unless already done, do the following actions.

(1) PART I—Within the next 500 flight hours or 3 months after the effective date of this AD, whichever occurs first, carry out a general visual inspection of both LH (left-hand) and RH (right-hand) engine anti-ice system valves to determine their P/N (part number).

(i) If any engine anti-ice system valve with P/N C146009-2 is found, no further action is required by paragraph (f)(1) of this AD.

(ii) If any anti-ice system valve with P/N C146009-3 is found, before further flight: Remove it and carry out a detailed inspection regarding its integrity; and carry out a special detailed inspection for an obstruction in the corresponding engine anti-ice system tubes; according to the detailed instructions and procedures described in EMBRAER Service Bulletin 145-30-0049, Revision 01, dated October 19, 2006; or 145LEG-30-0016, Revision 01, dated February 5, 2007; as applicable.

(A) If the valve is damaged or the tube is obstructed, as shown in EMBRAER Service Bulletin 145-30-0049, Revision 01, dated October 19, 2006; or 145LEG-30-0016, Revision 01, dated February 5, 2007; as applicable; before further flight: Replace the valve with another one bearing P/N C146009-2, C146009-3, or C146009-4; or remove the obstruction; as applicable; in accordance with the Accomplishment Instructions of the applicable service bulletin.

(B) If the valve is not damaged or the tube is not obstructed, re-install the valve or install another one bearing P/N C146009-2, C146009-3, or C146009-4; or re-install the tube; in accordance with the Accomplishment Instructions of the applicable service bulletin.

(iii) If any engine anti-ice system valve with P/N C146009-4 is found, no further action is required by paragraph (f)(1) of this AD. In this case, paragraphs (f)(2), (f)(3), (f)(4), (f)(7), and (f)(8) of this AD are not applicable. However, paragraphs (f)(5) and (f)(6) of this AD must be accomplished.

(2) PART II—Within the next 1,500 flight hours or 9 months after the effective date of this AD, whichever occurs first, and thereafter at intervals that do not exceed 1,000 flight hours or 6 months, whichever occurs first, carry out a detailed inspection for damage of both LH and RH engine anti-ice system valves bearing P/N C146009-2 or C146009-3; and a special detailed inspection for obstruction of the corresponding engine anti-ice system tubes; according to the detailed instructions and procedures described in EMBRAER Service Bulletin 145-30-0049, Revision 01, dated October 19, 2006; or 145LEG-30-0016, Revision 01, dated February 5, 2007; as applicable; accomplishing paragraphs (f)(2)(i) and (f)(2)(ii) of this AD.

(i) If the valve is damaged or the tube is obstructed, as shown in EMBRAER Service Bulletin 145-30-0049, Revision 01, dated October 19, 2006; or 145LEG-30-0016, Revision 01, dated February 5, 2007; as applicable; before further flight: Replace the valve with another one bearing P/N C146009-2, C146009-3, or C146009-4; or remove the obstruction; as applicable; in accordance with the Accomplishment Instructions of the applicable service bulletin.

(ii) If the valve is not damaged, and the tube is not obstructed, before further flight: Re-install the valve or install another one bearing P/N C146009-2, C146009-3, or C146009-4; or remove the obstruction; as applicable; in accordance with the Accomplishment Instructions of EMBRAER Service Bulletin 145-30-0049, Revision 01, dated October 19, 2006; or 145LEG-30-0016, Revision 01, dated February 5, 2007; as applicable.

(3) PART III—Any engine anti-ice system valve with P/N C146009-2 or C146009-3 that will be installed as a replacement as provided for in paragraph (f)(1) and (f)(2) of this AD, must undergo a detailed inspection for its integrity before installation, and any damage or obstruction repaired, according to the detailed instructions and procedures described in EMBRAER Service Bulletin 145-30-0049, Revision 01, dated October 19, 2006; or 145LEG-30-0016, Revision 01, dated February 5, 2007; as applicable; and additionally adhere to paragraphs (f)(3)(i) and (f)(3)(ii) of this AD.

(i) If the valve is damaged, replace it by another one bearing P/N C146009-2, C146009-3, or C146009-4; in accordance with the Accomplishment Instructions of the applicable service bulletin.

(ii) If the valve is not damaged installation is permitted.

(4) PART IV—Any engine anti-ice system tubes that will be installed on the aircraft as a replacement as provided for in paragraph (f)(1) and (f)(2) of this AD, must undergo a special detailed inspection before installation, and any damage or obstruction repaired, according to the detailed instructions and procedures described in EMBRAER Service Bulletin 145-30-0049, Revision 01, dated October 19, 2006; or 145LEG-30-0016, Revision 01, dated February 5, 2007; as applicable.

(5) PART V—If any engine anti-ice system valve with P/N C146009-4 has been found during the inspection required by paragraph (f)(1) of this AD, do paragraphs (f)(5)(i) or (f)(5)(ii) of this AD, as applicable, within the next 1,500 flight hours or 9 months after the effective date of this AD, whichever occurs first.

(i) If the valve was installed according to the detailed instructions and procedures described in EMBRAER Service Bulletin 145-30-0044, Revision 01, dated June 26, 2006, Revision 02, dated September 25, 2006, or Revision 03, dated December 12, 2006; or 145LEG-30-0018, Revision 02, dated December 12, 2006; as applicable; no further action is required by this AD.

(ii) If the valve was installed according to the detailed instructions and procedures described in EMBRAER Service Bulletin 145-30-0044, Revision 03, dated December 12, 2006; 145LEG-30-0018, dated June 26, 2006; or 145LEG-30-0018, Revision 01, dated September 25, 2006; as applicable; carry out a special detailed inspection in the corresponding engine anti-ice system tubes, and repair any damage or remove any obstruction; according to the detailed instructions and procedures described in EMBRAER Service Bulletin 145-30-0049, Revision 01, dated October 19, 2006; or 145LEG-30-0016, Revision 01, dated February 5, 2007; as applicable.

(6) PART VI—Before aircraft dispatch with one or two engine anti-ice system valves inoperative (Master Minimum Equipment List (MMEL) 30-21-01), carry out a detailed inspection for damage of the affected engine anti-ice system valves; and a special detailed inspection for obstruction of the corresponding engine anti-ice system tubes; and repair any damage or obstruction before further flight. Do all actions according to the detailed instructions and procedures described in EMBRAER Service Bulletin 145-30-0049, Revision 01, dated October 19, 2006; or 145LEG-30-0016, Revision 01, dated February 5, 2007; as applicable; accomplishing paragraph (f)(2) of this AD, unless:

(i) Valves with P/N C146009-4 have been previously installed according to the detailed instructions and procedures described in EMBRAER Service Bulletin 145-30-0044, Revision 03, dated December 12, 2006; or 145LEG-30-0018, dated June 26, 2006; or 145LEG-30-0018, Revision 01, dated September 25, 2006; as applicable; and additionally, paragraph (f)(5)(ii) of this AD has been accomplished; or

(ii) Valves with P/N C146009-4 have been previously installed according to the detailed instructions and procedures described in EMBRAER Service Bulletin 145-30-0044, Revision 01, dated June 26, 2006, or Revision 02, dated September 25, 2006; or 145LEG-30-0018, Revision 02, dated December 12, 2006; as applicable.

(7) PART VII—Within the next 2,500 flight hours or 12 months after the effective date of this AD, whichever occurs first, install engine anti-ice system valves bearing P/N C146009-4 in the LH and RH engine positions, replacing P/N C146009-3, according to the detailed instructions and procedures described in EMBRAER Service Bulletin 145-30-0044, Revision 01, dated June 26, 2006, Revision 02, dated September 25, 2006, or Revision 03, dated December 12, 2006; or 145LEG-30-0018, Revision 02, dated December 12, 2006; as applicable.

(8) PART VIII—Within the next 6,000 flight hours or 30 months after the effective date of this AD, whichever occurs first, install engine anti-ice system valves bearing P/N C146009-4 in the LH and RH engine positions, replacing P/N C146009-2, according to the detailed instructions and procedures described in EMBRAER Service Bulletin 145-30-0044, Revision 01, dated June 26, 2006; Revision 02, dated September 25, 2006, or Revision 03, dated December 12, 2006; or 145LEG-30-0018, Revision 02, dated December 12, 2006; as applicable.

(9) The installation of engine anti-ice system valves bearing P/N C146009-4 according to the detailed instructions and procedures described in EMBRAER Service Bulletin 145-30-0044, Revision 01, dated June 26, 2006, Revision 02, dated September 25, 2006, or Revision 03, dated December 12, 2006; or 145LEG-30-0018, Revision 02, dated December 12, 2006; as applicable; constitutes a terminating action for this AD, in lieu of the repetitive inspections required by paragraph (f)(2) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: For the purposes of this AD, a special detailed inspection is: “An intensive examination of a specific item, installation, or assembly to detect damage, failure, or irregularity. The examination is likely to make extensive use of specialized inspection techniques and/or equipment. Intricate cleaning and substantial access or disassembly procedure may be required.”

FAA AD Differences

Note: This AD differs from the MCAI and/or service information as follows: No differences.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Brazilian Airworthiness Directive 2006-09-03R1, effective January 4, 2007; and EMBRAER Service Bulletins 145-30-0044, Revision 03, dated December 12, 2006; 145-30-0049, Revision 01, dated October 19, 2006; 145LEG-30-0016, Revision 01, dated February 5, 2007; and 145LEG-30-0018, Revision 02, dated December 12, 2006; for related information.

Issued in Renton, Washington, on October 15, 2007.
Ali Bahrami,
Manager, Transport Airplane Directorate, Aircraft Certification Service.

[FR Doc. E7-21002 Filed 10-24-07; 8:45 am]

BILLING CODE 4910-13-P